DEPARTMENT OF ENERGY

Federal Energy Regulatory Commission

Combined Notice of Filings #2

Take notice that the Commission received the following electric corporate filings:

Docket Numbers: EC20-49-000.

Applicants: PSEG Fossil LLC, Yards Creek Energy, LLC.

Description: Joint Application for Authorization Under Section 203 of the Federal Power Act, et al. of PSEG Fossil LLC, et al.

Filed Date: 3/30/20.

Accession Number: 20200330-5419.

Comments Due: 5 p.m. ET 5/14/20.

Take notice that the Commission received the following electric rate filings:

Docket Numbers: ER10-1975-025; ER10-1976-012; ER10-1985-012;

ER10-1989-013; ER10-2078-018; ER10-2641-035; ER11-2192-015; ER11-4678-014; ER12-1660-017; ER12-2444-013; ER12-631-015; ER12-676-012; ER13-2458-012; ER13-2461-012; ER13-2474-015; ER14-2708-017; ER14-2709-016; ER14-2710-016; ER15-1016-007; ER15-2243-005; ER15-30-014; ER15-58-014; ER16-1277-008; ER16-1293-007; ER16-1440-010; ER16-1913-005; ER16-2240-010; ER16-2297-009; ER16-2506-009; ER17-196-004; ER17-2270-009; ER17-582-005; ER17-583-005; ER18-1981-005; ER18-2032-005; ER18-2091-004; ER18-2224-007; ER18-807-004; ER19-11-004; ER19-2266-001; ER19-2382-001; ER19-2495-001; ER19-2513-001; ER19-774-004.

Applicants: North Jersey Energy Associates, A Limited Partnership, North Sky River Energy, LLC, Northern Colorado Wind Energy, LLC, Oleander Power Project, Limited Partnership, Oliver Wind III, LLC, Osborn Wind Energy, LLC, Palo Duro Wind Energy, LLC, Palo Duro Wind Interconnection Services, LLC, Peetz Logan Interconnect, LLC, Peetz Table Wind Energy, LLC, Pegasus Wind, LLC, Perrin Ranch Wind, LLC, Pheasant Run Wind, LLC, Pima Energy Storage System, LLC, Pinal Central Energy Center, LLC, Pratt Wind, LLC, Quitman Solar, LLC, Red Mesa Wind, LLC, River Bend Solar, LLC, Roswell Solar, LLC, Rush Springs Wind Energy, LLC, Seiling Wind, LLC, Seiling Wind II, LLC, Seiling Wind Interconnection Services, LLC, Silver State Solar Power South, LLC, Shafter Solar, LLC, Sky River LLC, Stanton Clean Energy, LLC, Steele Flats Wind Project, LLC, Story County Wind, LLC, Stuttgart Solar, LLC, Titan Solar, LLC, Tuscola Bay Wind, LLC, Tuscola Wind II, LLC, Vasco Winds, LLC, Wessington Springs Wind, LLC, Westside Solar, LLC, White Oak Energy LLC, White Oak Solar, LLC, White Pine Solar, LLC, Whitney Point Solar, LLC, Wildcat Ranch Wind Project, LLC, Wilton Wind Energy II, LLC, Windpower Partners 1993, LLC.

Description: Notice of Change in Status of the NextEra MBR Sellers (Part 3), et al.

Filed Date: 3/27/20.

Accession Number: 20200327-5337.

Comments Due: 5 p.m. ET 4/17/20.

Docket Numbers: ER18-254-000.

Applicants: Buckeye Power, Inc.

Description: Buckeye Power, Inc. submits tariff filing per 35.19a(b): Refund Report_South Central Power Company [ER18-254 and ER19-1457] to be effective N/A.

Filed Date: 3/30/20.

Accession Number: 20200330-5308.

Comments Due: 5 p.m. ET 4/20/20.

Docket Numbers: ER20-1442-000.

Applicants: Wisconsin Public Service Corporation.

Description: § 205(d) Rate Filing: Filing of Annual Formula Rate of PEB and PBOP Changes to be effective 4/1/2020.

Filed Date: 3/31/20.

Accession Number: 20200331-5019.

Comments Due: 5 p.m. ET 4/21/20.

Docket Numbers: ER20-1443-000.

Applicants: PJM Interconnection, L.L.C.

Description: § 205(d) Rate Filing: Original WMPA, Service Agreement No. 5609; Queue No. AE1-219 to be effective 3/5/2020.

Filed Date: 3/31/20.

Accession Number: 20200331-5022.

Comments Due: 5 p.m. ET 4/21/20.

Docket Numbers: ER20-1444-000.

Applicants: Midcontinent Independent System Operator, Inc., MidAmerican Energy Company.

Description: § 205(d) Rate Filing: 2020-03-31_MidAmerican Attachment O Revisions to be effective 6/1/2020.

Filed Date: 3/31/20.

Accession Number: 20200331-5047.

Comments Due: 5 p.m. ET 4/21/20.

Docket Numbers: ER20-1445-000.

Applicants: Emera Maine.

Description: § 205(d) Rate Filing: Service Agreement for NISTA—Houlton Water Company to be effective 3/31/2020.

Filed Date: 3/31/20.

Accession Number: 20200331-5057.

Comments Due: 5 p.m. ET 4/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 31, 2020.
Nathaniel J. Davis, Sr.,
Deputy Secretary.

[FR Doc. 2020-07197 Filed 4-6-20; 8:45 am]

BILLING CODE 6717-01-P